DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference.

Information Collection Request Title: Develop and Implement UCARE4LIFE Message Library OMB No. 0915-xxxx-New.

Abstract: This project will develop and implement the UCARE4LIFE message library aimed at increasing HIV primary care retention rates for racial and ethnic minority youth aged 15 to 24, living with HIV/AIDS. The primary aims are (1) to develop, test, and maintain a text message library, which addresses topics of HIV disease management, e.g. appointment keeping, retention in care, and medication adherence rates; and (2) to develop, implement, conduct, and evaluate a pilot study of delivering text messages to targeted youth receiving care at Ryan White grantee sites and other clinical sites.

The first phase of this project will include focus group interviews with the target audience to test the messages (Aim 1). Approximately 128 individuals will be screened to assess focus group eligibility. Four focus groups will be conducted with up to eight participants in each for a total sample size of 32.

The second phase of this project involves the evaluation of the pilot study (Aim 2). This will encompass data collection with patients and providers. Patient participants for the pilot study will be recruited from ten clinical sites, some of which will be Ryan White grantees. Up to 1,000 individuals will be screened to determine eligibility for the pilot study to recruit a sample of 500 participants (50 from each clinical site). Patient participants will complete a baseline survey, 3-month survey, 6-month survey, and follow-up survey at 9 months. In addition, ten patient participants from each clinical site will be selected to participate in an in-depth, qualitative telephone interview for a total of 100 interviews. Finally, up to three clinic staff from the ten participating clinics will take part in in-depth, qualitative telephone interviews (N=30).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Patient Focus Group Screener | 128 | 1 | 128 | 0.25 | 32
Patient Focus Group Interview | 32 | 1 | 32 | 2.0 | 64
Patient Pilot Study Screener | 1000 | 1 | 1000 | 0.25 | 250
Patient Pilot Study Surveys | 500 | 4 | 2000 | 0.75 | 1500
Patient Pilot Study Qualitative Interviews | 100 | 1 | 100 | 1.0 | 100
Clinic Staff Pilot Study Qualitative Interviews | 30 | 1 | 30 | 0.75 | 22.5
Total | 1790 |  | 3290 |  | 1968.5

Dated: August 28, 2013.
Bahar Niakan,
Director, Division of Policy and Information Coordination.

[FR Doc. 2013-21557 Filed 9-4-13; 8:45 am]

BILLING CODE 4165-15-P